DEPARTMENT OF ENERGY

Amended Notice of Intent To Expand the Scope of the Environmental Impact Statement for the Alignment, Construction, and Operation of a Rail Line to a Geologic Repository at Yucca Mountain, Nye County, NV

AGENCY: Department of Energy.

ACTION: Amended notice of intent.

SUMMARY: The Department of Energy (DOE or the Department) is providing this Amended Notice of Intent to expand the scope of the ongoing Environmental Impact Statement for the Alignment, Construction and Operation of a Rail Line to a Geologic Repository at Yucca Mountain, Nye County, Nevada (DOE/EIS-0369, Rail Alignment EIS, Notice of Intent, April 8, 2004, 69 FR 18565). In the ongoing Rail Alignment EIS, DOE has undertaken an analysis of alternative rail alignments in which to construct and operate a rail line within what is referred to as the Caliente corridor. Based on new information, DOE now plans to expand the Rail Alignment EIS to incorporate analysis of a new rail corridor alternative. This additional analysis will supplement the corridor analyses in the “Final Environmental Impact Statement for a Geologic Repository for the Disposal of Spent Nuclear Fuel and High-Level Radioactive Waste at Yucca Mountain, Nye County, Nevada” (DOE/EIS-0250F, Yucca Mountain Final EIS, February 2002). The expanded analysis will consider the potential environmental impacts of a newly proposed Mina rail corridor at the same level of corridor analysis as is contained in the Yucca Mountain Final EIS, and will review the rail corridor analyses of that Final EIS, and update, as appropriate. The expanded scope will then proceed to include a detailed analysis of alternative alignments within the Mina corridor at the same level of analysis of the ongoing alignment analysis for the Caliente corridor. The result will be to provide the public with information concerning both the potential corridor and alignment impacts of the Mina corridor at the same time DOE presents the potential impacts for the construction and operation of a rail line within the Caliente corridor. The expanded EIS will be entitled the Supplemental Yucca Mountain Rail Corridor and Rail Alignment EIS (DOE/EIS-0250F-S2 and DOE/EIS-0369).

On April 8, 2004 (69 FR 18557), the Department issued a Record of Decision announcing its selection, both nationally and in the State of Nevada, of the mostly rail scenario analyzed in the Yucca Mountain Final EIS. This decision will ultimately require the construction of a rail line to connect the repository site at Yucca Mountain to an existing rail line in the State of Nevada for the shipment of spent nuclear fuel and high-level radioactive waste. To that end, the Department also selected the Caliente rail corridor in which to examine possible alignments for construction of that rail line. On April 8, 2004 (69 FR 18565), DOE issued a Notice of Intent to prepare an EIS under the National Environmental Policy Act (NEPA) for the alignment, construction, and operation of a rail line for shipments of spent nuclear fuel, high-level radioactive waste, and other materials from a site near Caliente, Nevada, to a geologic repository at Yucca Mountain, Nevada (the Rail Alignment EIS).

During subsequent public scoping, DOE received comments that offered preferences for various rail corridors analyzed in detail in the Yucca Mountain Final EIS, and identified other rail corridors for consideration. In particular, commenters recommended that DOE consider the Mina route, which would include use of an existing rail line from Hazen, Nevada, to the Thorne siding in Hawthorne, Nevada, and the construction of new rail line that would follow an abandoned rail line nearly to Yucca Mountain.

In the Yucca Mountain Final EIS, DOE considered, but eliminated from detailed study, several potential rail routes. One of those potential rail routes, the Mina route, could only connect to an existing rail line by crossing the Walker River Paiute Tribe Reservation northwest of Hawthorne, Nevada, and the Tribe had informed DOE that it would refuse to allow nuclear waste to be transported across its reservation (letter dated December 6, 1991). For this reason, the Department considered the Mina route to pose an unavoidable land use conflict and thus to be unavailable for further consideration.

Following review of the scoping comments for the Rail Alignment EIS, DOE held discussions with the Walker River Paiute Tribe regarding the availability of the Mina route. Subsequently, in May 2006, the Walker River Paiute Tribe informed DOE that the Tribal Council had withdrawn its objection to the completion of an EIS studying the transportation of nuclear waste across its reservation. The Tribe stated that its Tribal Council had not decided to allow such shipments, but indicated that inclusion of the Mina route in an EIS would allow the Tribe to make a more informed, final decision about the matter.

In view of the Tribal Council's decision, DOE initiated a study to determine the feasibility of the Mina route, and to identify a specific corridor (Mina corridor) and associated preliminary alternative alignments (described below under Mina Alternative Alignments). Based on DOE's preliminary analysis, in comparison with other rail corridors, the Mina corridor appears to offer potential advantages to the extent it would cross fewer mountain ranges, utilize existing rail bed, and also be a shorter distance. These potential advantages would simplify design and construction of a rail line, and therefore would be less costly to construct. The Mina corridor also would appear to have fewer land use conflicts, and would involve less land disturbance, which tends to result in lower adverse environmental impacts overall.

For these reasons, DOE has concluded that the Mina corridor warrants further detailed study. Accordingly, DOE is announcing its intent to expand the scope of the Rail Alignment EIS to supplement the rail corridor analyses of the Yucca Mountain Final EIS, and analyze the Mina corridor. This Supplemental Yucca Mountain Rail Corridor and Rail Alignment EIS ¹ also will consider, in detail, alignments for the construction and operation of a rail line within the Caliente and Mina rail corridors.

¹ Coincident with this Amended Notice of Intent, DOE is publishing a Notice of Intent to prepare a Supplemental Yucca Mountain EIS (DOE/EIS-0250F-S1). That Supplement will consider the current repository design and plans for its construction and operation, and the transportation of spent nuclear fuel and high-level radioactive waste from sites around the United States to the repository at Yucca Mountain.

DATES: The Department invites comments on the scope of the Supplemental Yucca Mountain Rail Corridor and Rail Alignment EIS to ensure that all relevant environmental issues and reasonable alternatives are addressed. Public scoping meetings are discussed below in the SUPPLEMENTARY INFORMATION section. DOE will consider all comments received during the 45-day public scoping period, which starts with publication of this Amended Notice of Intent and ends November 27, 2006. Comments received after this date will be considered to the extent practicable.

ADDRESSES: Requests for additional information on the Supplemental Yucca Mountain Rail Corridor and Rail Alignment EIS or transportation planning in general should be directed to: Mr. M. Lee Bishop, EIS Document Manager, Office of Logistics Management, Office of Civilian Radioactive Waste Management, U.S. Department of Energy, 1551 Hillshire Drive, M/S 011, Las Vegas, NV 89134, Telephone 1-800-967-3477. Written comments on the scope of the Supplemental Yucca Mountain Rail Corridor and Rail Alignment EIS may be submitted to Mr. M. Lee Bishop at this address, by facsimile to 1-800-967-0739, or via the Internet at http://www.ocrwm.doe.gov under the caption, What's New.

FOR FURTHER INFORMATION CONTACT: For general information regarding the DOE NEPA process contact: Ms. Carol M. Borgstrom, Director, Office of NEPA Policy and Compliance, U.S. Department of Energy, 1000 Independence Ave., SW., Washington, DC 20585, Telephone 202-586-4600, or leave a message at 1-800-472-2756.

SUPPLEMENTARY INFORMATION:

Background

On July 23, 2002, the President signed into law (Pub. L. 107-200) a joint resolution of the U.S. House of Representatives and the U.S. Senate designating the Yucca Mountain site in Nye County, Nevada, for development as a geologic repository for the disposal of spent nuclear fuel and high-level radioactive waste. Subsequently, the Department issued a Record of Decision (April 8, 2004) to announce its selection, both nationally and in the State of Nevada, of the mostly rail scenario analyzed in the Yucca Mountain Final EIS as the mode of transportation for spent nuclear fuel and high-level radioactive waste to the repository. Under the mostly rail scenario, the Department would rely on a combination of rail, truck and possibly barge to transport to the repository site at Yucca Mountain up to 70,000 metric tons of heavy metal of spent nuclear fuel and high-level radioactive waste. Most of the spent nuclear fuel and high-level radioactive waste, however, would be transported by rail.

The Department's decision to select the mostly rail scenario in Nevada ultimately will require the construction of a rail line ² to connect the repository site at Yucca Mountain to an existing rail line in the State of Nevada for the shipment of spent nuclear fuel and high-level radioactive waste in the event the Nuclear Regulatory Commission authorizes construction of the repository, and receipt and possession of these materials at Yucca Mountain. To that end, in the same Record of Decision, the Department also decided to select the Caliente rail corridor ³ to study possible alignments for this proposed rail line. The Caliente rail corridor originates at an existing siding to the Union Pacific railroad near Caliente, Nevada, and extends in a westerly direction to the northwest corner of the Nevada Test and Training Range, before turning south-southeast to the repository at Yucca Mountain. The Caliente corridor ranges between 512 kilometers (318 miles) and 553 kilometers (344 miles) in length, depending on the alternative alignments considered.

² Rail line means the railroad track and underlying earthworks.

³ A corridor is a strip of land 400 meters (0.25 mile) wide through which DOE would identify an alignment for the construction of a rail line.

On April 8, 2004, DOE issued a Notice of Intent to prepare an EIS under NEPA for the alignment, construction, and operation of a rail line for shipments of spent nuclear fuel, high-level radioactive waste, and other materials ⁴ from a site near Caliente, Nevada to a geologic repository at Yucca Mountain, Nevada. During subsequent public scoping, DOE received comments that offered preferences for various rail corridors analyzed in detail in the Yucca Mountain Final EIS, and identified other rail corridors for consideration. In particular, commenters recommended that DOE consider “the Mina route,” which would include use of an existing rail line from Hazen, Nevada, to the Thorne siding at Hawthorne, Nevada, and the construction of new rail line that would follow an abandoned rail line nearly to Yucca Mountain.

⁴ Other materials are those related to the construction and operation of the repository.

In the Yucca Mountain Final EIS, DOE considered, but eliminated from detailed study, the Mina route and several other potential rail routes (see Section 2.3.3.1). These other potential rail routes were identified in a series of three transportation studies—“Preliminary Rail Access Study” (January, 1990), the “Nevada Potential Repository Preliminary Transportation Strategy, Study 1” (February, 1995), and the “Nevada Potential Repository Preliminary Transportation Strategy, Study 2” (February, 1996). Based on the latter (1996) study and public scoping, five potential rail corridors were considered in detail in the Yucca Mountain Final EIS.

In the 1996 study, the Mina route was not recommended for further study, because a rail line within the Mina route could only connect to an existing rail line by crossing the Walker River Paiute Tribe Reservation, and the Tribe had informed DOE that it would refuse to allow nuclear waste to be transported across its reservation (letter dated December 6, 1991). For this reason, the Department considered the Mina route to pose an unavoidable land use conflict and thus to be unavailable for further consideration (see Section 2.3.3.1 in the Yucca Mountain Final EIS).

Following review of the scoping comments for the Rail Alignment EIS, DOE held discussions with the Walker River Paiute Tribe regarding the availability of the Mina route. Subsequently, in May 2006, the Walker River Paiute Tribe informed DOE that the Tribal Council had withdrawn its objection to the completion of an EIS studying the transportation of nuclear waste across its reservation. The Tribe stated that its Tribal Council had not decided to allow such shipments, but indicated that inclusion of the Mina route in an EIS would allow the Tribe to make a more informed, final decision about the matter.

In view of the Tribal Council's decision, DOE initiated a study to determine the feasibility of the Mina route, and to identify a specific corridor (the Mina corridor) and associated preliminary alternative alignments. Based on DOE's preliminary analysis, in comparison with other rail corridors, the Mina corridor appears to offer potential advantages to the extent it would cross fewer mountain ranges, utilize existing rail bed, and also be a shorter distance. These potential advantages would simplify design and construction of the rail line, and therefore would be less costly to construct. The Mina corridor also would appear to have fewer land use conflicts, and would involve less land disturbance, which tends to result in lower adverse environmental impacts overall.

For these reasons, DOE has concluded that the Mina corridor warrants further detailed study. Accordingly, DOE is announcing its intent to expand the scope of the Rail Alignment EIS to prepare a Supplemental EIS that will supplement the rail corridor analyses of the Yucca Mountain Final EIS. In the Yucca Mountain Final EIS, DOE evaluated the construction and operation of a rail line within five corridors—Caliente, Caliente-Chalk Mountain, Carlin, Jean and Valley Modified. In the Supplemental Yucca Mountain Rail Corridor and Rail Alignment EIS, DOE will review the environmental information and analyses for these corridors, and update, as appropriate ⁵; DOE also plans to consider the Mina corridor at a level of detail commensurate with that of the Yucca Mountain Final EIS. In addition, the Supplemental Yucca Mountain Rail Corridor and Rail Alignment EIS will consider, in detail, alignments for the construction and operation of a rail line within the Caliente and Mina corridors.

⁵ In a letter to the U.S. Air Force (dated December 1, 2004), DOE eliminated from detailed study alignments that would intersect the Nevada Test and Training Range because of concerns regarding military readiness testing and training activities. This letter was in response to a May 28, 2004 letter from the U.S. Air Force. For the same reasons cited in these letters, DOE does not intend to consider further the Caliente-Chalk Mountain rail corridor.

The Mina corridor originates at an existing rail line near Wabuska, Nevada, where it proceeds southeasterly through Hawthorne to Blair Junction, and then on to Lida Junction. At that point, it becomes coincident with the Caliente corridor trending southeasterly through Oasis Valley before turning north-northeast to Yucca Mountain. The Mina corridor is about 450 kilometers (280 miles) in length; however, construction of new rail line would range between about 386 kilometers (240 miles) and 409 kilometers (254 miles) because the corridor includes the existing Department of Defense rail line from Wabuska to the Hawthorne Army Depot in Hawthorne.

Previous Public Scoping Comments

The Department received more than 4,100 comments during the public scoping period for the Rail Alignment EIS that ended June 1, 2004. In general, many of these comments offered preferences for various rail corridors or requested DOE to evaluate rail corridors other than Caliente, and suggested new alternative alignments or criteria (e.g., avoid wilderness study areas) that could be used to modify the preliminary alignments proposed by DOE or to create new alternative alignments. These comments helped inform DOE's decision to expand the scope of the Rail Alignment EIS as discussed under Background above, and to identify the range of reasonable alternative alignments as discussed under Caliente Alternative Alignments below.

Commenters also requested that DOE allow other commodities to be shipped on the rail line by private entities (referred to herein as shared use). As described under Proposed Action below, the Supplemental Yucca Mountain Rail Corridor and Rail Alignment EIS will evaluate shipments of commercial commodities, in addition to shipments of DOE materials.

DOE also received comments regarding analytical methods for various environmental resources such as cultural resources and water use, treatment of cumulative impacts and Native American concerns, the nature of the evaluation of potential accidents and sabotage, and the identification of mitigation measures. These comments and associated issues will be addressed in the Supplemental Yucca Mountain Rail Corridor and Rail Alignment EIS.

Proposed Action

Under the Supplemental Yucca Mountain Rail Corridor and Rail Alignment EIS, the Proposed Action is to determine a rail alignment ⁶ (within a rail corridor) in which to construct and operate a rail line for shipments of spent nuclear fuel, high-level radioactive waste, and other materials from an existing railroad in Nevada to a geologic repository at Yucca Mountain, Nye County, Nevada. DOE now plans to review the environmental information and analyses for four rail corridors, and update, as appropriate (Caliente, Carlin, Jean and Valley Modified), include and analyze the Mina corridor, and evaluate in detail two alternatives that would implement the Proposed Action—the Mina Alternative and the Caliente Alternative. Under each implementing alternative, DOE will evaluate the potential environmental impacts from the construction and operation of a rail line along various alternative alignments ⁷ and common segments.⁸ As part of rail line operations, DOE also will evaluate, as an option to the Mina and Caliente implementing alternatives, the shipment of commercial commodities by private entities (shared use).

⁶ A strip of land less than 400 meters (0.25 mile) wide through which the location of a rail line would be identified.

⁷ A geographic region of the rail alignment for which multiple routes for the rail line have been identified.

⁸ A geographic region of the rail alignment for which a single route for the rail line has been identified.

Preliminary Alternatives

As required by the Council on Environmental Quality and Departmental regulations that implement NEPA, the Supplemental Yucca Mountain Rail Corridor and Rail Alignment EIS will analyze and present the environmental impacts associated with the range of reasonable alternatives to meet DOE's purpose and need for a rail line, and a no-action alternative. The preliminary alternative alignments for the Caliente and Mina rail alignments comprise a series of common segments and alternatives (maps may be obtained as described above in ADDRESSES). The Department is interested in identifying and subsequently evaluating any additional reasonable alternative alignments within the Caliente or Mina corridors that would reduce or avoid known or potential adverse environmental impacts, features having aesthetic values, and land-use conflicts, or alternatives that should be eliminated from detailed consideration. This could include identifying alternative alignments that could avoid environmentally sensitive areas or other land use conflicts.

Caliente Alternative Alignments

DOE's Notice of Intent (April 8, 2004) identified preliminary alternative alignments and common segments to be evaluated in the Rail Alignment EIS. The Notice of Intent also indicated that DOE would consider other potential alternatives if they would minimize, avoid or otherwise mitigate adverse environmental impacts.

Following scoping, DOE evaluated all public comments, as well as information from other sources, that could affect the preliminary alternative alignments and common segments identified in the Notice of Intent. Based on this information, DOE identified additional alternative alignments, and modified the preliminary alignments and common segments identified in the Notice of Intent to create a suite of potential alternatives. This suite was then evaluated using environmental features and engineering and design factors to determine, preliminarily, the range of reasonable alternative alignments. As an example, commenters identified alternative alignments that would avoid Garden Valley by identifying routes through Coal Valley that cross the Golden Gate Range. However, DOE found these alignments are not reasonable alternatives because they would either exceed engineering and design factors or would be far more costly to construct than other alignments that pass through Garden Valley.

On this basis, DOE has identified, preliminarily, alternative alignments at the interface with the Union Pacific Railroad near Caliente, in Garden Valley, near the Reveille Range and the Town of Goldfield, north of Scottys Junction (referred to as Bonnie Claire), and in Oasis Valley. These alternative alignments, which are described below, will be considered in detail in the Supplemental Yucca Mountain Rail Corridor and Rail Alignment EIS.

Interface With Union Pacific Railroad

DOE has identified two alternative alignments, Caliente and Eccles, either of which alternative alignment would connect the proposed rail line to the existing Union Pacific Railroad in or near the City of Caliente. The Caliente alternative alignment would begin in Caliente, enter Meadow Valley Wash at Indian Cove, and extend generally north through Meadow Valley Wash and along U.S. 93. This alternative alignment would then cross U.S. 93 about 5 kilometers (3 miles) southwest of Panaca and connect to Common Segment 1 about 1 kilometer (0.6 mile) northwest of U.S. 93 and 18 kilometers (11 miles) south of Pioche. The Caliente alternative alignment would be approximately 18 kilometers (11 miles) long.

The Eccles alternative alignment would begin along Clover Creek about 8 kilometers (5 miles) east of Caliente and trend generally north to enter Meadow Valley Wash from the southeast. This alternative alignment would then cross U.S. 93 about 5 kilometers (3 miles) southwest of Panaca and connect to Common Segment 1 about 1 kilometer (0.6 mile) northwest of U.S. 93 and 18 kilometers (11 miles) south of Pioche. The Eccles alternative alignment would be about 18 kilometers (11 miles) long.

Garden Valley

DOE is considering four alternative alignments in the Garden Valley area, referred to as Garden Valley 1, 2, 3, and 8. Garden Valley 1 would run due west through the Golden Gate Range for about 7 kilometers (4 miles), trend in a southwesterly direction through Garden Valley, cross the Lincoln and Nye County line, and connect to Common Segment 2 about 5 kilometers (3 miles) north of the Worthington Mountains Wilderness Area, and 3 kilometers (2 miles) east of the Humboldt Toiyabe National Forest. The Garden Valley 1 alternative alignment would be approximately 35 kilometers (22 miles) long.

Garden Valley 2 would run to the south of Garden Valley 1 and Garden Valley 3, crossing the Lincoln and Nye County line. Garden Valley 2 would continue southwesterly through the Golden Gate Range at Water Gap, turn westward through Garden Valley, and continue southwesterly to connect to Common Segment 2 about 5 kilometers (3 miles) north of the Worthington Mountains Wilderness Area and 3 kilometers (2 miles) east of the Humboldt Toiyabe National Forest. The Garden Valley 2 alternative alignment would be about 37 kilometers (23 miles) long.

Garden Valley 3 would run due west through the Golden Gate Range and then in a northwesterly direction until turning southwest to run along the southeast base of the Quinn Canyon Range. Continuing in a southwesterly direction, it would run through Garden Valley, cross the Lincoln and Nye County line, and connect to Common Segment 2 about 5 kilometers (3 miles) north of the Worthington Mountains Wilderness Area and 3 kilometers (2 miles) east of the Humboldt Toiyabe National Forest. The Garden Valley 3 alternative alignment would be approximately 36 kilometers (22 miles) long.

Garden Valley 8 would run to the south of Garden Valley 1 and Garden Valley 3, crossing the Lincoln and Nye County line. It would continue southwesterly through the Golden Gate Range at Water Gap, would turn westward through Garden Valley, and run in a southwesterly direction before turning sharply westward. Garden Valley 8 would proceed westward and connect to Common Segment 2 about 5 kilometers (3 miles) north of the Worthington Mountains Wilderness Area and 3 kilometers (2 miles) east of the Humboldt Toiyabe National Forest. The Garden Valley 8 alternative alignment would be about 38 kilometers (23 miles) long, 8 kilometers (5 miles) of which parallels Garden Valley Road.

South Reveille

South Reveille 2 and South Reveille 3 alternative alignments would begin 5 kilometers (3 miles) south of the South Reveille Wilderness Study Area. South Reveille 2 would trend to the northwest along the border of the South Reveille Wilderness Study Area. South Reveille 3 would trend northwest a few kilometers to the west and roughly parallel to South Reveille 2. South Reveille 2 or South Reveille 3 would connect to Common Segment 3 in Reveille Valley about 14 kilometers (9 miles) west of State Route 375. South Reveille 2 would be approximately 19 kilometers (12 miles) long and South Reveille 3 would be approximately 20 kilometers (12 miles) long.

Goldfield

DOE is considering three alternative alignments in the Goldfield area, referred to as Goldfield 1, 3, and 4. Goldfield 1 would extend south into the Goldfield Hills area, passing east of Black Butte. It would turn east near Espina Hill and head south to the east of Blackcap Mountain. It would wind around a series of hills and valleys to maintain an acceptable grade. Goldfield 1 would run for approximately 11 kilometers (7 miles) along an abandoned rail line before joining Common Segment 4 about 1 kilometer (0.6 mile) northeast of Ralston. In total, the Goldfield 1 alternative alignment would be 47 kilometers (29 miles) long.

Goldfield 3 would extend south and farther to the east than the other Goldfield alternative alignments. Like Goldfield 1, Goldfield 3 would wind around a series of hills and valleys to maintain an acceptable grade. Also like Goldfield 1, Goldfield 3 would run for approximately 11 kilometers (7 miles) along an abandoned rail line before joining common Segment 4 about 1 kilometer (0.6 mile) northeast of Ralston. In total, the Goldfield 3 alternative alignment would be about 50 kilometers (31 miles) long.

The western Goldfield alternative alignment, Goldfield 4, would depart from Common Segment 3 to the north of Black Butte and trend southwest. It would then cross U.S. 95 and turn south toward Goldfield. After passing through the southwestern edge of Goldfield and crossing U.S. 95 again, Goldfield 4 would turn south to connect with Common Segment 4. Goldfield 4 would be about 53 kilometers (33 miles) long.

Bonnie Claire

DOE is considering two alternative alignments, Bonnie Claire 2 and 3. Bonnie Claire 2 would depart Common Segment 4 about 8 kilometers (5 miles) north of Stonewall Pass and would trend east toward the Nevada Test and Training Range for about 5 kilometers (3 miles) before turning south for an additional 17 kilometers (11 miles). Bonnie Claire 2 generally would follow the Nevada Test and Training Range boundary and would join Common Segment 5 in Sarcobatus Flats to the north of Scottys Junction near the intersection of State Route 267 and U.S. 95. Bonnie Claire 2 would be approximately 20 kilometers long.

Bonnie Claire 3 would depart Common Segment 4 about 8 kilometers (5 miles) north of Stonewall Pass. Bonnie Claire 3 would trend generally south, paralleling U.S. 95 to the east. After approximately 10 kilometers (6 miles), Bonnie Claire 3 would turn southeast and continue for an additional 10 kilometers (6 miles) through Sarcobatus Flats. It would then join Common Segment 5 approximately 4 kilometers (2 miles) north of Scottys Junction near the intersection of State Route 267 and U.S. 95. Bonnie Claire 3 would be approximately 20 kilometers (12 miles) long.

Oasis Valley

DOE is considering two alternative alignments, referred to as Oasis Valley 1 and Oasis Valley 3. Oasis Valley 1 would depart Common Segment 5 about 3 kilometers (2 miles) north of Oasis Mountain and would run southeast and connect to Common Segment 6. Oasis Valley 1 would be approximately 10 kilometers (6 miles) long.

Oasis Valley 3 would also depart Common Segment 5 about 3 kilometers (2 miles) north of Oasis Mountain and would run generally east and then south before crossing Oasis Valley farther to the east than Oasis Valley 1, and then connecting to Common Segment 6. Oasis Valley 3 would be 14 kilometers (9 miles) long.

Mina Alternative Alignments

Following receipt of the letter regarding the Walker River Paiute Tribal Council decision (May, 2006), the Department initiated a study to consider the feasibility of the Mina route, and to identify a specific corridor (Mina corridor) and associated preliminary alternative alignments. The process used to identify the preliminary alternative alignments within the Mina corridor is consistent with that described under Caliente Alternative Alignments. Alternative alignments were identified near the Town of Schurz, around the Montezuma Range, north of Scottys Junction (referred to as Bonnie Claire), and in Oasis Valley. These are described below.

Town of Schurz

DOE has identified three alternative alignments that would bypass the Town of Schurz, Nevada. Schurz Bypass 1 would depart from the existing rail line about 30 kilometers (18 miles) northwest of the Town of Schurz passing along the eastern side of the valley (Sunshine Flat). From there, the alignment passes east of Weber Reservoir and crosses U.S. 95 about 8 kilometers (5 miles) north of the intersection of U.S. 95 and Alternate U.S. 95. Schurz Bypass 1 then trends southeast remaining on the far side of the valley to where it rejoins the existing rail line about 13 kilometers (8 miles) south of Schurz. Schurz Bypass 1 would be 51 kilometers (32 miles) long.

Schurz Bypass 2 also would depart the existing line at the same point of departure as Schurz Bypass 1 and would pass along the eastern side of Sunshine Flat. From there, the alignment passes east of Weber Reservoir and crosses U.S. 95 about 7 kilometers (4 miles) north of the intersection of U.S. 95 and Alternate U.S. 95. From there, the alignment trends to the southeast but staying to the east of Schurz and west of Schurz Bypass 1 until it rejoins the existing rail line about 13 kilometers (8 miles) south of Schurz. Schurz Bypass 2 would be 50 kilometers (31 miles) long.

Schurz Bypass 3 would depart the existing rail line about 9 kilometers (6 miles) northwest of the Town of Schurz where it would cross the Walker River. The alignment then crosses U.S. 95 about 8 kilometers (5 miles) north of the intersection of U.S. 95 and Alternate U.S. 95 at which point it continues southeasterly to a point where it rejoins the existing rail line about 13 kilometers (8 miles) south of Schurz, on the east side of the valley.

Montezuma Range

DOE identified two alternative alignments that depart near Blair Junction at the intersection of U.S. 95 and U.S. 6 to avoid the Montezuma Range; they rejoin at a point just east of Lida Junction. The first alignment, Montezuma Range 1, would depart Blair Junction paralleling State Route 265 to the Town of Silver Peak where it would proceed north to follow the western side of Clayton Ridge. The alignment would then turn south approximately 16 kilometers (10 miles) before Railroad Pass at which point it would turn east between the southern end of the Goldfield Hills and the Cuprite Hills. The alignment would then cross U.S. 95 about 7 kilometers (5 miles) north of Lida Junction and, paralleling U.S. 95, then head south to a point just east of Lida Junction. Montezuma Range 1 would be about 134 kilometers (83 miles) long.

Montezuma Range 2, after departing from the intersection of U.S. 95 and U.S. 6, would follow the abandoned Tonopah and Goldfield rail roadbed east to the north of Lone Mountain, at which point the alignment would head south following the abandoned roadbed. The alignment would traverse Montezuma Valley south to Klondike and would then parallel U.S. 95 as it approaches the Town of Goldfield. Montezuma Range 2 would stay west of Goldfield and then trend southeasterly to a point just east of Lida Junction where it would reconnect with Montezuma Range 1. Montezuma Range 2 would be about 135 kilometers (84 miles) long.

Bonnie Claire and Oasis Valley

The Bonnie Claire and Oasis Valley alternative alignments are as described above under Caliente Alternative Alignments.

No Action Alternative

The Council on Environmental Quality and Departmental regulations that implement NEPA require consideration of the alternative of no action. Under the No Action Alternative, DOE would not select a rail alignment within the Caliente or Mina rail corridors for the construction and operation of a rail line. As such, the No Action Alternative provides a basis for comparison to the Proposed Action.

In the event that DOE were not to select a rail alignment in the Caliente or Mina corridors, the future course that it would pursue is uncertain. DOE recognizes that other possibilities could be pursued, including identifying and evaluating alignments in other corridors considered in the Yucca Mountain Final EIS.

Potential Environmental Issues and Resources To be Examined

The Council on Environmental Quality regulations direct Federal agencies preparing an EIS to focus on significant environmental issues (40 CFR 1502.1) and discuss impacts in proportion to their significance (40 CFR 1502.2). Accordingly, the Supplemental Yucca Mountain Rail Corridor and Rail Alignment EIS will analyze issues and impacts with the amount of detail commensurate with their importance.

To facilitate the scoping process, DOE has identified a preliminary list of issues and environmental resources that it may consider in the Supplemental Yucca Mountain Rail Corridor and Rail Alignment EIS. The list is not intended to be all-inclusive or to predetermine the scope or alternatives of the Supplemental Yucca Mountain Rail Corridor and Rail Alignment EIS, but should be used as a starting point from which the public can help DOE define the scope of the EIS.

• Potential impacts to the concept of multiple use as it applies to public land use planning and management specified by the Federal Land Policy and Management Act of 1976.

• Potential impacts to land use and ownership.

• Potential impacts to plants, animals and their habitats, including impacts to wetlands, and threatened and endangered and other sensitive species.

• Potential impacts to cultural resources.

• Potential impacts to American Indian resources.

• Potential impacts to paleontological resources.

• Potential impacts to the public from noise and vibration.

• Potential impacts to the general public and workers from radiological exposures during incident-free operations of the railroad.

• Potential impacts to the general public and workers from radiological exposures from potential accidents during operations of the railroad.

• Potential impacts to water resources and floodplains.

• Potential impacts to aesthetic values.

• Potential disproportionately high and adverse impacts to low-income and minority populations (environmental justice).

• Irretrievable and irreversible commitment of resources.

• Compliance with applicable Federal, state and local requirements.

The Department specifically invites comments on the following relative to the Mina corridor and its alternative alignments:

1. Should additional alternative alignments be considered that might minimize, avoid or mitigate adverse environmental impacts (for example, looking beyond the 0.25 mile wide Mina corridor, avoiding environmentally sensitive areas)?

2. Should any of the preliminary alternatives be eliminated from detailed consideration?

3. Should additional environmental resources be considered?

4.What mitigation measures should be considered?

In addition, the Department is interested in identifying any significant changes to, or new information relevant to, the rail corridors analyzed in the Yucca Mountain Final EIS.

Schedule

The DOE intends to issue the Draft Supplemental Yucca Mountain Rail Corridor and Rail Alignment EIS in 2007 at which time its availability will be announced in the Federal Register and local media. A public comment period will start upon publication of the Environmental Protection Agency's Notice of Availability in the Federal Register. The Department will consider and respond to comments received on the Draft in preparing the Final Supplemental Yucca Mountain Rail Corridor and Rail Alignment EIS.

Other Agency Involvement

Currently, the U.S. Bureau of Land Management, U.S. Air Force and the U.S. Surface Transportation Board are cooperating agencies in the preparation of the Supplemental Yucca Mountain Rail Corridor and Rail Alignment EIS. The Department also expects to invite the following to be cooperating agencies: Walker River Paiute Tribe, U.S. Bureau of Indian Affairs, and the U.S. Army. The Tribe and these agencies have management and regulatory authority over lands traversed by alternative rail alignments within the Mina and Caliente rail corridors, or special expertise germane to the construction and operation of a rail line. DOE will consult with the U.S. Army Corps of Engineers, U.S. Fish and Wildlife Service, U.S. Nuclear Regulatory Commission, Native American Tribal organizations, the State of Nevada, and Nye, Lincoln, Esmeralda, Mineral, Churchill and Lyon Counties regarding the environmental and regulatory issues germane to the Proposed Action. DOE invites comments on its identification of cooperating and consulting agencies and organizations.

Public Scoping Meetings

DOE will hold public scoping meetings on the Supplemental Yucca Mountain Rail Corridor and Rail Alignment EIS. The meetings will be held at the following locations and times:

• Amargosa Valley, Nevada. Longstreet Hotel Casino, Nevada State Highway 373, November 1, 2006 from 4-7 p.m.⁹

⁹ DOE will hold a joint public scoping meeting on the Supplemental Yucca Mountain EIS (DOE/EIS-0250F-S1) and Supplemental Yucca Mountain Rail Corridor and Rail Alignment EIS (DOE/EIS-0250F-S2 and DOE/EIS-0369) in Amargosa Valley, Longstreet Hotel Casino, Nevada State Highway 373, November 1 from 4-7 pm. Additional public scoping meetings on the Supplemental Yucca Mountain EIS will be held in Washington, DC, L'Enfant Plaza Hotel, 480 L'Enfant Plaza, SW, October 30 from 4-7 pm; and Las Vegas, Cashman Center, 850 North Las Vegas Blvd., November 2 from 4-7 pm.

• Caliente, Nevada. Caliente Youth Center, U.S. 93 North, November 8, 2006 from 6-8 p.m.

• Goldfield, Nevada. Goldfield School Gymnasium, Hall and Euclid, November 13, 2006 from 4-7 p.m.

• Hawthorne, Nevada. Hawthorne Convention Center, 932 E. Street, November 14, 2006 from 4-7 p.m.

• Fallon, Nevada. Fallon Convention Center, 100 Campus Way, November 15, 2006 from 4-7 p.m.

The public scoping meetings will be an open meeting format without a formal presentation by DOE. Members of the public are invited to attend the meetings at their convenience any time during meeting hours and submit their comments in writing at the meeting, or in person to a court reporter who will be available throughout the meeting. This open meeting format increases the opportunity for public comment and provides for one-on-one discussions with DOE representatives involved with the Supplemental Yucca Mountain Rail Corridor and Rail Alignment EIS, and transportation planning in general.

The public scoping meetings will be held during the public scoping comment period. The comment period begins with publication of this Amended Notice of Intent in the Federal Register and closes November 27, 2006. Comments received after this date will be considered to the extent practicable. Written comments may be provided in writing, facsimile, or by the Internet to Mr. Lee Bishop, EIS Document Manager (see ADDRESSES above).

Public Reading Rooms

Documents referenced in this Amended Notice of Intent and related information are available at the following locations: Beatty Yucca Mountain Information Center, 100 North E. Avenue, Beatty, NV 89003, (775) 553-2130; Esmeralda County Yucca Mountain Oversight Office, 274 E. Crook Avenue, Goldfield, NV 89013, (775) 485-3419; Las Vegas Yucca Mountain Information Center, 4101-B Meadows Lane, Las Vegas, NV 89107, (702) 295-1312; Lincoln County Nuclear Waste Project Office, 100 Depot Avenue, Caliente, NV 89008, (775) 726-3511; Nye County Department of Natural Resources and Federal Facilities, 1210 E. Basin Road, Suite #6, Pahrump, NV 89060 (775) 727-7727; Pahrump Yucca Mountain Information Center, 2341 Postal Drive, Pahrump, NV 89048, (775) 571-5817; University of Nevada, Reno, The University of Nevada Libraries, Business and Government Information Center, M/S 322, 1664 N. Virginia Street, Reno, NV 89557, (775) 784-6500, Ext. 309; and the U.S. Department of Energy Headquarters Office Public Reading Room, 1000 Independence Avenue SW., Room 1E-190 (ME-74) FORS, Washington, DC 20585, 202-586-3142.

Issued in Washington, DC, October 10, 2006.
David R. Hill,
General Counsel.

[FR Doc. 06-8675 Filed 10-10-06; 4:15 pm]

BILLING CODE 6450-01-P